DEPARTMENT OF TRANSPORTATION

Federal Aviation Administration

14 CFR Part 39

[Docket No. FAA-2005-23142; Directorate Identifier 2005-NM-154-AD; Amendment 39-14532; AD 2006-07-05]

RIN 2120-AA64

Airworthiness Directives; Airbus Model A319-131, -132, and -133; A320-232 and -233; and A321-131, -231, and -232 Airplanes

AGENCY: Federal Aviation Administration (FAA), Department of Transportation (DOT).

ACTION: Final rule.

SUMMARY: The FAA is adopting a new airworthiness directive (AD) for certain Airbus Model A319-131, -132, and -133; A320-232 and -233; and A321-131, -231, and -232 airplanes. This AD requires inspecting for cracks or failure of the primary load path components of the engine forward mount, and corrective action if necessary. This AD also requires removing, re-installing, and re-torquing the attachment bolts for the secondary load path. This AD results from a report that, during modification of certain engine forward mount assemblies of the left and right engines done at an engine shop visit, an incorrect torque was applied to the attachment bolts. We are issuing this AD to prevent structural failure of the secondary load path of the forward engine mount, which, if combined with failure of the primary load path, could result in separation of the engine from the airplane.

DATES: This AD becomes effective May 4, 2006.

The Director of the Federal Register approved the incorporation by reference of a certain publication listed in the AD as of May 4, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319-131, -132, and -133; A320-232 and -233; and A321-131 and -231 airplanes. That NPRM was published in the Federal Register on December 1, 2005 (70 FR 72088). That NPRM proposed to require inspecting for cracks or failure of the primary load path components of the engine forward mount, and corrective action if necessary. That NPRM also proposed to require removing, re-installing, and re-torquing the attachment bolts for the secondary load path.

Comments

We provided the public the opportunity to participate in the development of this AD. We have considered the comment received from one commenter.

Clarification of Applicability

The commenter states that Airbus Model A321-232 airplanes are not identified in the applicability of the AD. The commenter notes that there have been nine of these airplanes delivered that are not U.S.-registered.

We infer that the commenter wants us to include Airbus Model A321-232 airplanes in the applicability of the AD. We agree with the commenter. The proposed AD is applicable to Airbus Model A319-131, -132, and -133; A320-232 and -233; and A321-131 and -231 airplanes. Model A321-232 airplanes have been approved, but are not yet identified in the type certificate data sheet (TCDS). Considering this approval, we have changed the applicability throughout the AD accordingly. Additionally, no Model A321-232 airplane is currently on the U.S. Register so no additional work is required for U.S. operators.

Clarification of Applicability in Paragraph (f) of the NPRM

We note that paragraph (f) of the NPRM contains an error in referencing the airplane models on which the detailed inspection must be done. Our intent was to specify all of the airplane models identified in Airbus All Operators Telex A320-71A1036, Revision 1, dated June 28, 2005, as referenced in the applicability section; however, we inadvertently excluded Model A320-232 and -233 airplanes in paragraph (f). We have verified that the inspection has been accomplished on all affected models. Therefore, no additional work is required for U.S. operators. Adding these models to paragraph (f) will ensure that any affected airplane that is imported into the U.S. after the effective date of this AD is inspected, as required by this AD. We have added a new paragraph (f)(3) to the AD to include these models.

Conclusion

We have carefully reviewed the available data, including the comment that has been received, and determined that air safety and the public interest require adopting the AD with the changes described previously. These changes will neither increase the economic burden on any operator nor increase the scope of the AD.

Costs of Compliance

This AD affects about 131 airplanes of U.S. registry.

The inspection takes about 2 work hours per airplane (1 work hour per engine), at an average labor rate of $65 per work hour. Based on these figures, the estimated cost of the inspection for U.S. operators is $17,030, or $130 per airplane.

The removal, re-installation, and re-torquing takes about 8 work hours per airplane (4 work hours per engine), at an average labor rate of $65 per work hour. Based on these figures, the estimated cost of the adjustments for U.S. operators is $68,120, or $520 per airplane.

If any Model A321-232 airplane is imported and placed on the U.S. Register in the future, it will take about 2 work hours per airplane for the inspection and 8 work hours per airplane for the removal, re-installation, and re-torquing, at an average labor rate of $65 per work hour. Based on these figures, the estimated cost of the AD will be $750 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-05 Airbus: Amendment 39-14532. Docket No. FAA-2005-23142; Directorate Identifier 2005-NM-154-AD.

Effective Date

(a) This AD becomes effective May 4, 2006.

Affected ADs

(b) None.

Applicability

(c) This AD applies to Airbus Model A319-131, -132, and -133 airplanes; Model A320-232 and -233 airplanes; and Model A321-131, -231, and -232 airplanes; certificated in any category; as identified in Airbus All Operators Telex (AOT) A320-71A1036, Revision 1, dated June 28, 2005.

Unsafe Condition

(d) This AD results from a report that, during modification of certain engine forward mount assemblies of the left and right engines done at an engine shop visit, an incorrect torque was applied to the attachment bolts. We are issuing this AD to prevent structural failure of the secondary load path of the forward engine mount, which, if combined with failure of the primary load path, could result in separation of the engine from the airplane.

Compliance

(e) You are responsible for having the actions required by this AD performed within the compliance times specified, unless the actions have already been done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Inspection and Corrective Action

(f) Perform a detailed inspection for cracks or failure of the primary load path components of the engine forward mount by doing all the applicable actions in accordance with the procedures in Airbus AOT A320-71A1036, Revision 1, dated June 28, 2005. Perform the actions at the time specified in paragraph (f)(1), (f)(2), or (f)(3) of this AD, as applicable. Do any corrective action before further flight in accordance with the procedures in the AOT.

(1) For Model A321-131, -231, and -232 airplanes: Do the inspection within 5 days after the effective date of this AD.

(2) For Model A319-131, -132, and -133 airplanes: Do the inspection within 10 days after the effective date of this AD.

(3) For Model A320-232 and -233 airplanes: Do the inspection within 10 days after the effective date of this AD.

(g) For all airplanes: At the applicable time specified in paragraph (g)(1) or (g)(2) of this AD, remove, re-install, and re-torque each of the attachment bolts of the engine forward mount assembly in accordance with the procedures in Airbus AOT A320-71A1036, Revision 1, dated June 28, 2005.

(1) If the inspection specified in paragraph (f) of this AD was accomplished after the effective date of this AD: Do the actions within 2,250 flight cycles after accomplishing the inspection.

(2) If the inspection specified in paragraph (f) of this AD was accomplished before the effective date of this AD: Do the actions within 2,250 flight cycles after the effective date of this AD.

Actions Accomplished Previously

(h) Inspections, adjustments or repairs done before the effective date of this AD in accordance with the procedures in Airbus AOT A320-71A1036, dated June 27, 2005, are acceptable for compliance with the corresponding actions required by this AD.

No Reporting Required

(i) Although Airbus AOT A320-71A1036, Revision 1, dated June 28, 2005, recommends that inspection results be reported to the manufacturer, this AD does not include that requirement.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French emergency airworthiness directive UF-2005-117, dated June 29, 2005, also addresses the subject of this AD.

Material Incorporated by Reference

(l) You must use Airbus All Operators Telex A320-71A1036, Revision 1, dated June 28, 2005, to perform the actions that are required by this AD, unless the AD specifies otherwise. (Only page 1 of the all operators telex contains the document number, revision number, and date of the document; no other page of the document contains this information.) The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 17, 2006.
Ali Bahrami,
Manager, Transport Airplane Directorate, Aircraft Certification Service.

[FR Doc. 06-2961 Filed 3-29-06; 8:45 am]

BILLING CODE 4910-13-P